DEPARTMENT OF JUSTICE

[OMB Number 1140-0072]

Agency Information Collection Activities; Proposed eCollection eComments Requested; Revision of a Previously Approved Collection; Explosives Employee Possessor Questionnaire—ATF Form 5400.28

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until July 14, 2023.

FOR FURTHER INFORMATION CONTACT: If you have additional comments especially on the estimated public burden or associated response time, suggestions, or need a copy of the proposed information collection instrument with instructions or additional information, please contact Shawn Stevens, Explosives Industry Liaison, Federal Explosives Licensing Center, either by mail at 244 Needy Road, Martinsburg, WV 25405, by email at Shawn.Stevens@atf.gov, or by telephone at 304-616-4400.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Persons employed in the explosives business or operations who are required to ship, transport, receive, or possess explosive materials, will complete the Explosives Employee Possessor Questionnaire—ATF Form 5400.28. The form will be submitted to ATF, to determine whether the person who provided the information, is qualified to be an employee possessor in an explosives business. Additionally, the adjustments associated with this collection includes an increase in both, the number of respondents by 72,125 and total burden hours by 24,374 since the last renewal in 2021.

Overview of This Information Collection

1. Type of Information Collection: Revision of a previously approved collection.

2. The Title of the Form/Collection: Explosives Employee Possessor Questionnaire.

3. The agency form number, if any, and the applicable component of the Department sponsoring the collection: ATF F 5400.28. Component: Bureau of Alcohol, Tobacco, Firearms and Explosives, U.S. Department of Justice.

4. Affected public who will be asked or required to respond, as well as the obligation to respond: Affected Public: Private Sector—business or other for-profit institutions. The obligation to respond is mandatory per 27 CFR 555.

5. An estimate of the total number of respondents and the amount of time estimated for an average respondent to respond: An estimated 83,125 respondents will use the form once annually, and it will take each respondent 20 minutes to complete their response.

6. An estimate of the total public burden (in hours) associated with the collection: The estimated annual public burden associated with this collection is 27,708 hours, which is equal to 83,125 (total respondents) * 1 (# of response per respondent) * .33333 (20 minutes).

7. An estimate of the total cost burden associated with the collection, if applicable: $0.

Total Burden Hours
Activity | Number of respondents | Frequency | Total annual responses | Time per response (minutes) | Total annual burden (hours)
ATF Form 5400.28 | 83,125 | 1 | 83,125 | 20 | 27,708
Unduplicated Totals | 83,125 |  | 83,125 |  | 27,708

If additional information is required contact: John R. Carlson, Department Clearance Officer, United States Department of Justice, Justice Management Division, Policy and Planning Staff, Two Constitution Square, 145 N Street NE, 4W-218, Washington, DC.

Dated: May 9, 2023.
John Carlson,
Department Clearance Officer for PRA, U.S. Department of Justice.

[FR Doc. 2023-10237 Filed 5-12-23; 8:45 am]

BILLING CODE 4410-14-P